DEPARTMENT OF JUSTICE

Notice of Lodging of Proposed Consent Decree Under the Comprehensive Environmental Response, Compensation, and Liability Act

On October 28, 2014, the Department of Justice lodged a proposed Consent Decree with the United States District Court for the District of Connecticut in the lawsuit entitled United States v. City of Derby, Connecticut, Civil Action No. 3:14-cv-01594-WWE.

The United States filed this lawsuit under the Comprehensive Environmental Response, Compensation, and Liability Act, 42 U.S.C. 9601, et seq., seeking to recover costs incurred in performing a removal action at the O'Sullivan's Island Superfund Site in the City of Derby, Connecticut. Under the proposed ability-to-pay Consent Decree, the City will pay $675,000.00 to EPA. The United States covenants not to sue the City under Section 107 of CERCLA to recover past response costs.

The publication of this notice opens a period for public comment on the proposed Consent Decree. Comments should be addressed to the Assistant Attorney General, Environment and Natural Resources Division and should refer to United States v. City of Derby, Connecticut, D.J. Ref. No. 90-11-3-10354. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $6.00 (25 cents per page reproduction cost) payable to the United States Treasury.

Robert E. Maher Jr.,
Assistant Section Chief, Environmental Enforcement Section, Environment and Natural Resources Division.

[FR Doc. 2014-26180 Filed 11-3-14; 8:45 am]

BILLING CODE 4410-15-P